DEPARTMENT OF ENERGY

Nuclear Energy Advisory Committee

AGENCY: Department of Energy, Office of Nuclear Energy.

ACTION: Notice of open meeting.

SUMMARY: This notice announces a meeting of the Nuclear Energy Advisory Committee (NEAC). The Federal Advisory Committee Act (Pub. L. 94-463, 86 Stat. 770) requires that public notice of these meetings be announced in the Federal Register.

DATES: Friday, December 18, 2009, 8:30 a.m.-5 p.m.

ADDRESSES: The meeting will be held at the L'Enfant Plaza Hotel at 480 L'Enfant Plaza, SW., Washington, DC 20024.

FOR FURTHER INFORMATION CONTACT: Kenneth Chuck Wade, Designated Federal Officer, U.S. Department of Energy, 19901 Germantown Rd., Germantown, MD 20874; telephone (301) 903-6509; e-mail Kenneth.wade@nuclear.energy.gov.

SUPPLEMENTARY INFORMATION: Background: The Nuclear Energy Advisory Committee (NEAC), formerly the Nuclear Energy Research Advisory Committee (NERAC), was established in 1998 by the U.S. Department of Energy (DOE) to provide expert advice on complex scientific, technical, and policy issues that arise in the planning, managing, and implementation of DOE's civilian nuclear energy research programs. NEAC is composed of individuals of diverse backgrounds selected for their technical expertise and experience, established records of distinguished professional service, and their knowledge of issues that pertain to nuclear energy.

Purpose of the Meeting: Introduction of new members to the committee; briefing the committee on recent developments and current status of research programs and projects pursued by the Department of Energy's Office of Nuclear Energy; and receiving advice and comments in return from the committee.

Tentative Agenda: The meeting is expected to include presentations that cover such topics as the Office of Nuclear Energy's strategic goals and direction, research and development roadmap, updates on the next generation nuclear plant project and university program activities. In addition, there will a discussion on nuclear energy policy and technology and NEAC subcommittees. The agenda may change to accommodate committee business. For updates, one is directed the NEAC Web site: http://www.ne.doe.gov/neac/neNeacMeetings.html.

Public Participation: Individuals and representatives of organizations who would like to offer comments and suggestions may do so on the day of the meeting, Friday, December 18, 2009. Approximately 15 minutes will be reserved for public comments. Time allotted per speaker will depend on the number who wish to speak but is not expected to exceed 5 minutes. Anyone who is not able to make the meeting or has had insufficient time to address the committee is invited to send a written statement to Kenneth Chuck Wade, U.S. Department of Energy 1000 Independence Avenue, SW., Washington DC 20585, or e-mail Kenneth.wade@nuclear.energy.gov.

Minutes: The minutes of the meeting will be available by contacting Mr. Wade at the address above or on the Department of Energy, Office of Nuclear Energy Web site at: http://www.ne.doe.gov/neac/neNeacMeetings.html.

Issued in Washington, DC, on November 3, 2009.
Rachel Samuel,
Deputy Committee Management Officer.

[FR Doc. E9-27164 Filed 11-10-09; 8:45 am]

BILLING CODE 6450-01-P